DEPARTMENT OF COMMERCE

National Oceanic and Atmospheric Administration

[RTID 0648-XB293]

Atlantic Highly Migratory Species; Meeting of the Atlantic Highly Migratory Species Advisory Panel

AGENCY: National Marine Fisheries Service (NMFS), National Oceanic and Atmospheric Administration (NOAA), Commerce.

ACTION: Notice of public webinars/conference calls.

SUMMARY: NMFS will hold a 3-day Atlantic Highly Migratory Species (HMS) Advisory Panel (AP) meeting in September 2021. The intent of the HMS AP meeting is to consider options for the conservation and management of Atlantic HMS. The meeting is open to the public.

DATES: The AP meeting will be held by webinar and conference call from 8:30 a.m. to 4 p.m. on Wednesday, September 8; from 8:30 a.m. to 4 p.m. on Thursday, September 9; and from 8:30 a.m. to 12 p.m. on Friday, September 10.

ADDRESSES: The meetings will be accessible via conference call and webinar. Conference call and webinar access information are available at: https://www.fisheries.noaa.gov/event/september-2021-hms-advisory-panel-meeting.

Participants are strongly encouraged to log/dial in 15 minutes prior to the meeting. NMFS will show the presentations via webinar and allow public comment during identified times on the agenda.

FOR FURTHER INFORMATION CONTACT: Peter Cooper at (301) 427-8503 or Peter.Cooper@noaa.gov.

SUPPLEMENTARY INFORMATION: Atlantic HMS fisheries are managed under the dual authority of the Magnuson-Stevens Fishery Conservation and Management Act (Magnuson-Stevens Act; 16 U.S.C. 1801 et seq.) and the Atlantic Tunas Convention Act (ATCA; 16 U.S.C. 971 et seq.). The 2006 Consolidated Atlantic HMS Fishery Management Plan (2006 Consolidated HMS FMP) and its amendments are implemented by regulations at 50 CFR part 635.

The Magnuson-Stevens Act requires the establishment of APs and requires NMFS to consult with and consider the comments and views of AP members during the preparation and implementation of FMPs or FMP amendments. 16 U.S.C. 1854(g)(1)(A)-(B). NMFS meets with the HMS AP approximately twice each year to consider potential alternatives for the conservation and management of Atlantic tunas, swordfish, billfish, and shark fisheries, consistent with the Magnuson-Stevens Act.

For this meeting, we anticipate discussing:

• Bluefin tuna fisheries management, including multiple sessions dedicated to Draft Amendment 13;

• The progress regarding a Report to Congress on an “assessment of fishing interference” by sharks and dolphins on commercial, charter, and recreational fishing in the Gulf of Mexico and South Atlantic as directed by the 2021 Appropriations Act Joint Explanatory Statement;

• The HMS best scientific information available (BSIA) framework draft document;

• The progress regarding spatial management models and considerations;

• Gear considerations and pelagic and demersal indicator species lists; and

• A plan to establish term limits for HMS AP members.

Additional information on the meetings and a copy of the draft agenda will be posted prior to the meeting at: https://www.fisheries.noaa.gov/event/september-2021-hms-advisory-panel-meeting.

Dated: August 3, 2021.
Jennifer M. Wallace,
Acting Director, Office of Sustainable Fisheries, National Marine Fisheries Service.

[FR Doc. 2021-16894 Filed 8-6-21; 8:45 am]

BILLING CODE 3510-22-P